ENVIRONMENTAL PROTECTION AGENCY

[OPP-100174; FRL-6792-6]

Science Applications International Corporation and Indus Corporation and Premier, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Science Applications International Corporation and its subcontractors, Indus Corporation, and Premier, Inc., in accordance with 40 CFR 2.307(h)(3) and 2.308(i)(2). Science Applications International Corporation and its subcontractors, Indus Corporation, and Premier, Inc., have been awarded a contract to perform work for OPP, and access to this information will enable Science Applications International Corporation and its subcontractors, Indus Corporation, and Premier Inc., to fulfill the obligations of the contract.

DATES: Science Applications International Corporation and its subcontractors, Indus Corporation, and Premier, Inc., will be given access to this information on or before July 30, 2001.

FOR FURTHER INFORMATION CONTACT: By mail: Erik R. Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations”, “Regulations and Proposed Rules,”" and then look up the entry for this document under the “Federal Register— Environmental Documents.” You can also go directly to the Federal Register listings at http://www.epa.gov/fedrgstr/.

II. Contractor Requirements

Under Contract No. 68-W9-9002/000, Science Applications International Corporation and its subcontractors, Indus Corporation and Premier, Inc., will perform the following based on the statement of work:

The Office of Compliance (OC), under the Office of Enforcement and Compliance Assurance (OECA), is responsible for successful implementation of OECA's compliance/enforcement policies and priorities. As such, OC publishes guidance for field inspectors (including targeting strategies), develops and conducts inspector training programs, coordinates national compliance initiatives, collects compliance-related data from the regulated community and program accomplishment data from the Headquarters, Regional and state pesticides and toxics compliance and enforcement programs. OC is responsible for a number of ADP systems that support the above activities.

Section Seven Tracking System (SSTS) serves as the repository of pesticide production and facility information which is collected under Section 7 of the Federal Insecticide, Fungicide, and Rodenticide Act, as amended (92 Stat. 829). Section 7 requires that all pesticide-producing establishments be registered with and file an annual pesticide production report to the Environmental Protection Agency.

The purpose of this task order is to provide analysis, enhancement, and maintenance support, as specified through specific task order tasks, to the pesticides and toxics automated data systems for which OECA is responsible.

The scope of work to be performed under this task order includes support for the automated systems described above; support for the functional management of the information contained in these systems and the related physical records, correspondence, etc.

The OPP has determined that access by Science Applications International Corporation and its subcontractors, Indus Corporation and Premier, Inc., to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Science Applications International Corporation and its subcontractors, Indus Corporation, and Premier Inc., prohibits use of the information for any purpose not specified in the contract; prohibits disclosure of the information to a third party without prior written approval from the Agency; and requires that each official and employee of the contractor sign an agreement to protect the information from unauthorized release and to handle it in accordance with the FIFRA Information Security Manual. In addition, Science Applications International Corporation and its subcontractors, Indus Corporation, and Premier, Inc., are required to submit for EPA approval a security plan under which any CBI will be secured and protected against unauthorized release or compromise. No information will be provided to Science Applications International Corporation and its subcontractors, Indus Corporation, and Premier, Inc., until the requirements in this document have been fully satisfied. Records of information provided to Science Applications International Corporation and its subcontractors, Indus Corporation and Premier, Inc., will be maintained by EPA Project Officers for this contract. All information supplied to Science Applications International Corporation and its subcontractors, Indus Corporation and Premier, Inc., by EPA for use in connection with this contract will be returned to EPA when Science Applications International Corporation and its subcontractors, Indus Corporation, and Premier, Inc., have completed their work.

List of Subjects

Environmental protection, Business and industry, Government contracts, Government property, Security measures.

Dated: July 11, 2001.
Joanne Martin,
Acting Director, Information Resources & Services Division Office of Pesticide Programs.

[FR Doc. 01-18320 Filed 7-24-01; 8:45 am]

BILLING CODE 6560-50-S